DEPARTMENT OF TRANSPORTATION

Research and Special Programs Administration

[Docket No. RSPA-98-4470]

Pipeline Safety: Meeting of the Technical Hazardous Liquid Pipeline Safety Standards Committee

AGENCY: Office of Pipeline Safety, Research and Special Programs Administration, DOT.

ACTION: Notice—Meeting of Technical Hazardous Liquid Pipeline Safety Standards Committee.

SUMMARY: The Research and Special Programs Administration's (RSPA) Office of Pipeline Safety (OPS) will convene a meeting of the Technical Hazardous Liquid Pipeline Safety Standards Committee (THLPSSC). The purpose of the meeting is to request the Committee's input on the conceptual framework of the OPS five-year research and development program plan as required by section 12 of the Pipeline Safety Improvement Act of 2002. RSPA/OPS staff will also brief the Committee and request their advice on a possible rule change to the operator qualification standard and on a rulemaking on annual reporting.

DATES: The meeting will be held on Wednesday, August 6 from 11 a.m. to 2 p.m. Advisory Committee members will participate via telephone conference call. Notice of each Committee meeting will be published in the Federal Register at least 15 days in advance of the meeting, except in emergency situations. This Notice is delayed due to the complex coordination among several agencies to complete and expedite the conceptional framework of the OPS five-year research and development program plan to meet the December 2003 deadline required by the Pipeline Safety Improvement Act of 2002.

ADDRESSES: Members of the public may attend the meeting in room 4236 at the U.S. Department of Transportation, 400 Seventh Street, SW., Washington, DC.

An opportunity will be provided for the public to make short statements on the topics under discussion. Anyone wishing to make an oral statement should notify Jean Milam, (202) 493-0967, not later than August 1, 2003, on the topic of the statement and the length of the presentation. The presiding officer at the meeting may deny any request to present an oral statement and may limit the time of any presentation.

You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should reference docket number RSPA-98-4470. Anyone who would like confirmation of mailed comments must include a self-addressed stamped postcard.

You may search the electronic form of all comments received into any of the DOT dockets by the name of the individual submitting the comment (or signing the comment, if submitted on behalf of an association, business, labor union, etc.). You may review DOT's complete Privacy Act Statement in the Federal Register published on April 11, 2000, (Volume 65, Number 70; pages 19477-78) or you may visit http://dms.dot.gov.

Information on Services for Individuals With Disabilities

For information on facilities or services for individuals with disabilities or to request special assistance at the meeting, contact Jean Milam at (202) 493-0967.

FOR FURTHER INFORMATION CONTACT: Cheryl Whetsel, OPS, (202) 366-4431 or Richard Huriaux, OPS, (202) 366-4565, regarding the subject matter of this notice.

SUPPLEMENTARY INFORMATION: The agenda for this meeting of the THLPSSC will include:

1. A briefing and request for Committee comment on the conceptual framework of the OPS five-year research and development program plan.

2. A briefing and request for advice on a possible rule change to the Operator Qualification Standard.

3. A briefing on the hazardous liquid annual report rulemaking.

The THLPSSC is a statutorily mandated advisory committee that advises RSPA/OPS on proposed safety standards for liquid pipelines. The advisory committee is constituted in accordance with section 10(a)(2) of the Federal Advisory Committee Act (Pub. L. 92-463, 5 U.S.C. App. 1). The committee consists of 15 members—five each representing government, industry, and the public. The THLPSSC is tasked with determining reasonableness, cost-effectiveness, and practicability of proposed pipeline regulations.

Authority: 49 U.S.C. 60102, 60115.

Issued in Washington, DC, on July 22, 2003.
Stacey L. Gerard,
Associate Administrator for Pipeline Safety.

[FR Doc. 03-19151 Filed 7-25-03; 8:45 am]

BILLING CODE 4910-60-P